DEPARTMENT OF DEFENSE

Department of the Army

Intent To Grant an Exclusive License for a U.S. Army Owned Invention to Triumph Actuation Systems—CT, LLC

AGENCY: Department of the Army, DoD.

ACTION: Notice.

SUMMARY: The Department of the Army announces that, unless there is objection, after 15 days it will grant an exclusive license to Triumph Actuation Systems—Connecticut, LLC, of Bloomfield, CT in U.S. patent 7,228,779, issued June 12, 2007, “Automatic Primer Feed Mechanism”; U.S. patent 7,246,549, issued July 24, 2007, “Automatic Primer Feed Mechanism; U.S. patent 7,318,369, issued January 15, 2008, “Out-of-Battery Lock for the Automatic Primer Feed Mechanism”; U.S. patent 7,845,264, issued December 7, 2010, “Automatic Primer Feed Mechanism”. Any license granted shall comply with 35 U.S.C. 209 and 37 CFR Part 404.

DATES: File written objections by February 1, 2012.

FOR FURTHER INFORMATION CONTACT: Mr. Timothy S. Ryan, Technology Transfer Program Manager, RDAR-EIB, U.S. Army ARDEC, Picatinny Arsenal, NJ 07806-5000, email: timothy.s.ryan@us.army.mil; (973) 724-7953.

SUPPLEMENTARY INFORMATION: Written objections must be filed within 15 days from publication date of this notice in the Federal Register. Any license granted shall comply with 35 U.S.C. 209 and 37 CFR 404.

Brenda S. Bowen,
Army Federal Register Liaison Officer.

[FR Doc. 2012-648 Filed 1-13-12; 8:45 am]

BILLING CODE 3710-08-P